DEPARTMENT OF AGRICULTURE

Submission for OMB Review; Comment Request

The Department of Agriculture has submitted the following information collection requirement(s) to OMB for review and approval under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by August 18, 2025. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Dairy Market News.

OMB Control Number: 0581-NEW.

Summary of Collection: The Agricultural Marketing Act of 1946 (7 U.S.C. 1621-1627) (AMA), as amended, authorizes the Secretary of Agriculture “to collect and disseminate marketing information, including adequate outlook information on a market-area basis, for the purpose of anticipating and meeting consumer requirements, aiding in the maintenance of farm income, and bringing about a balance between production, and utilization of agricultural products.” The collection of information in this request is based on the AMA, Title II, Subtitle A, § 203, principally, paragraphs (b), (g), and (k) that direct the Secretary of Agriculture to determine agricultural marketing costs and develop efficient marketing methods to reduce the price spread between producer and consumer; to collect and disseminate marketing information to bring about a balance between production and utilization of agricultural products; and to collect, tabulate, and disseminate agricultural marketing statistics.

Under this authority, the U.S. Department of Agriculture's (USDA) Agricultural Marketing Service (AMS) Dairy Market News (DMN) Division works to provide current coverage of prices, supply, demands, trends, movement, and other pertinent information affecting the trade of milk and related products, as well as locally produced and marketed products. The information requested is used to compile and disseminate market reports that provide current, unbiased, and factual information to all stakeholders in the U.S. agricultural industry. Market News reports assist producers, processors, wholesalers, retailers, and others to make informed decisions concerning production, purchasing, and sales.

In accordance with the Paperwork Reduction Act of 1995, 44 U.S.C. Chapter 35, AMS requests approval of this existing information collection in use without an OMB control number and describes the associated reporting and recordkeeping burden.

Need and Use of the Information: DMN reports are used primarily by dairy farmers and dairy industry stakeholders to determine future production and marketing projections, and to make marketing and contracting decisions. Federal agencies involved in food purchase programs and institutional buying rely on DMN reports as a source of supply and price data, to make policy decisions, and to perform a variety of other functions. Other USDA agencies including the Foreign Agricultural Service, Economic Research Service, and the National Agricultural Statistics Service use DMN reports to track prices, market conditions, and agricultural productivity, and to serve as indicators of economic growth. Economists, investors, and agricultural analysts use DMN reports to forecast, conduct policy analysis, and/or make financial decisions based on available supplies and current pricing. DMN reports are also widely used by the private sector including producers, farmers, processors, distributors, retailers, restaurants, consultants, brokers, forecasters, and transportation, financial, and educational institutions. Information for DMN reports is collected via email, telephone, and in-person or virtual meetings. Industry provides information using records kept in normal business practice.

Description of Respondents: Individuals or Households.

Number of Respondents: 120.

Frequency of Responses: Reporting: Annually.

Total Burden Hours: 518.

Agricultural Marketing Service

Title: Regulations Governing the Review of Butterfat Testing Records.

OMB Control Number: 0581-0340.

Summary of Collection: The Agricultural Marketing Act of 1946 (7 U.S.C. 1621 et seq.) directs the Department to develop programs that will provide for and facilitate the marketing of agricultural products. One of these programs is the Grade Label Program, a USDA voluntary inspection and grading program for dairy products (7 CFR part 58). In this program a USDA grader grades dairy products according to U.S. grade standards. Products meeting U.S. grade standards are permitted to use the applicable USDA grade shield on the packaging. Dairy processors, buyers, retailers, institutional users, and consumers requested this program to assure the uniform quality of dairy products in the marketplace.

Need and Use of the Information: In order for any service program to perform satisfactorily, there must be written guides and rules, which in this case are regulations for the provider and user. For the above reasons, General Specifications for Dairy Plants Approved for USDA Inspection and Grading Service were developed and issued under the authority of the Act. These regulations are essential to administer the program needed by the user and to carry out the purposes of the Act. This information collection seeks to replace butterfat testing by a USDA inspector with an annual review of a plant's butterfat testing records which are kept as part of their normal business records. A recordkeeping requirement is needed to authorize a USDA inspector to review plant records on-site.

Description of Respondents: Businesses or other for-profits; Farms.

Number of Respondents: 17.

Frequency of Responses: Reporting: Annually.

Total Burden Hours: 85.

Agricultural Marketing Service

Title: NOP Market Development for Mushrooms and Pet Food.

OMB Control Number: 0581-0347.

Summary of Collection: The Organic Foods Production Act of 1990 (OFPA), as amended (7 U.S.C. chapter 94), authorizes the Secretary of Agriculture to establish and implement the National Organic Program (NOP) and accredit certifying agents to certify that farms and businesses meet national organic standards. The purpose of OFPA is to: (1) establish national standards governing the marketing of certain agricultural products as organically produced products; (2) assure consumers that organically produced products meet a consistent standard; and (3) facilitate interstate commerce in fresh and processed food that is organically produced (7 U.S.C. 6501).

On December 23, 2024, the U.S. Department of Agriculture's (USDA) Agricultural Marketing Service (AMS) published the “Market Development for Mushrooms and Pet Food” final rule (104367) related to mushroom production practices and organic pet food handling under the USDA organic regulations (7 CFR part 205). AMS took this action to increase uniformity in organic mushroom production practices and organic pet food handling and reduce organic certification discrepancies between certifying agents. The final rule clarifies how the existing organic crop standards apply to mushroom production and establish organic pet food as a processed product that must follow existing organic handling requirements. Additionally, the rule would specify organic requirements for unique aspects of mushroom production like substrate, compost, and spawn and allows synthetic taurine to be used in organic pet food handling. This rulemaking supports the intent of OFPA, “to assure consumers that organically produced products meet a consistent standard” and to “establish national standards” for products marketed as organic (7 U.S.C. 6501).

All certified organic operations, including current organic mushroom production and organic pet food handling operations, must develop and maintain an organic system plan (OSP) to comply with the USDA organic regulations. The Office of Management and Budget (OMB) has currently approved information collections associated with the OSP under OMB control number 0581-0191, allowing AMS to fully implement the NOP. As a result of this final rule, currently certified organic mushrooms and pet food operations and certifying agents would need to verify continued compliance of their organic system plans (OSPs) with the final rule. While the final rule would amend the USDA organic regulations to codify existing organic practices, certified organic operations and certifying agents may need to make minor adjustments to the existing recordkeeping and reporting practices to maintain compliance. Additionally, the final rule adds allowances for nonorganic plant materials to be used in mushroom substrate when functionally equivalent organic materials are not commercially available. This allowance will require additional documentation for organic mushroom operations. AMS is estimating that organic mushroom operations will have annual reporting and recordkeeping paperwork burdens to utilize this exception.

Need and Use of the Information: Organic inspectors, certifying agents, State Organic Programs, operations, and AMS will use the information collected to verify that organic management practices meet the requirements of the USDA organic regulations and OFPA. The rule's amendments will likely require certifying agents to review and update the TM-10CG (Application for Accreditation) form submitted to AMS at the time of their accreditation renewal. Specifically, the rule may require certifying agents to update policies, procedures, and staff training descriptions that are submitted with the form. AMS will use the information collected to verify that certifying agents meet the requirements of the USDA organic regulations and OFPA.

Description of Respondents: Businesses or other for-profits; Farms.

Number of Respondents: 519.

Frequency of Responses: Reporting: Annually.

Total Burden Hours: 2,371.

Levi S. Harrell,
Departmental Information Collection Clearance Officer.

[FR Doc. 2025-13450 Filed 7-16-25; 8:45 am]

BILLING CODE 3410-02-P